DEPARTMENT OF HEALTH AND HUMAN SERVICES

Centers for Disease Control and Prevention

Strengthening HIV Counselor Training in the Republic of Uganda; Notice of Availability of Funds

Announcement Type: New.

Funding Opportunity Number: Program Announcement 04224.

Catalog of Federal Domestic Assistance Number: 93.941.

Key Dates:

Application Deadline: July 26, 2004.

I. Funding Opportunity Description

Authority: This program is authorized under Sections 301 and 307 of the Public Health Service Act, [42 U.S.C. Section 241 and 242l, and section 104 of the Foreign Assistance Act of 1961, 22 U.S.C. 215lb], as amended.

Purpose

The Centers for Disease Control and Prevention (CDC) announces the availability of fiscal year (FY) 2004 funds for a cooperative agreement program for Strengthening HIV Counselor Training in the Republic of Uganda. This program addresses the “Healthy People 2010” focus area(s) HIV.

The overall aim of this program is to: (1) Improve the capacity of HIV counselor training providers in Uganda to meet expanding need for counselors; (2) to develop new messages adapted to complex HIV issues and strategies; and (3) to ensure the quality of training.

The United States Government seeks to reduce the impact of HIV/AIDS in specific countries within sub-Saharan Africa, Asia and the Americas. The President's Emergency Plan for AIDS Relief (PEPFAR) encompasses HIV/AIDS activities in more than 75 countries and focuses on 14 countries, including Uganda, to develop comprehensive and integrated prevention, care and treatment programs. CDC has initiated its Global AIDS Program (GAP) to strengthen capacity and expand activities in the areas of: (1) HIV primary prevention; (2) HIV care, support and treatment; and (3) capacity and infrastructure development including surveillance. Targeted countries represent those with the most severe epidemics and the highest number of new infections. They also represent countries where the potential impact is greatest and where the United States government agencies are already active. Uganda is one of those countries.

CDC's mission in Uganda is to work with Ugandan and international partners to develop, evaluate, and support effective implementation of interventions to prevent HIV and related illnesses and improve care and support of persons with HIV/AIDS.

HIV counselor training in Uganda started about 15 years ago. Counselor training has grown, but it has grown haphazardly with many providers but little coordination of curriculum or quality control. Counseling skills are not yet a routine element of pre-service training for medical professionals. New curriculum development is needed to cover rapidly evolving issues such as antiretroviral therapy (ART), prevention of Mother to Child Transmission (PMTCT), home based counseling and testing, basic preventative care, routine counseling and testing (RCT) in clinical settings, and prevention with positives (PWP) counseling. In addition, the curriculum will include approaches that counselors can use to implement the ABC approach (that promotes abstinence until marriage, being faithful after HIV testing, and proper use of condoms.) Curriculum content, skills levels, and training duration need to be graded in accordance with the level and intensity of counseling to be provided by the trainee in the context of their work. Certification of qualifications within a common framework and accreditation of training providers are all key steps required to improve quality. Major NGO training providers need institutional development support in increasing their training output capacity to meet the demands of growing programs under the HIV/AIDS National Strategy. Without rapid impact in the area of counselor training, the lack of quality counseling as well as the limited number of counselors could become a major constraint in delivering increases in voluntary counseling and testing (VCT), RCT, PMTCT, basic care and ART.

The purpose of this program is to ensure that Uganda is able to meet its expanding need for quality HIV/AIDS counseling at different levels. The program will work with the Ministry of Health (MOH) and other stakeholders to review training needs, curricula, supply and demand, and delivery strategies. Training strategies and revised and new curricula will be developed to address gaps. Competencies will be determined for different levels of counseling and modular curricula will be developed for different target groups. Capacity building in the form of skills and organizational development will be provided to key training organizations to implement the new curricula and strategies and increase their trainee output. Support will be provided to the formation and development of an appropriate coordinating mechanism such as a professional body for counselors to work closely with the MOH and other stakeholders on issues such as quality assurance of training, curriculum coordination, certification, and standards and professional ethics.

The measurable outcomes of the program will be in alignment with goals of the Global AIDS Program to reduce HIV transmission and improve care of persons living with HIV (PLWH). They also will contribute to the PEPFAR goals for Uganda, which are: (1) Within five years treat more than two million HIV-infected persons with effective combination anti-retroviral therapy; (2) care for seven million HIV-infected and affected persons including those orphaned by HIV/AIDS; and (3) prevent 10 million new infections. A specific measurable outcome of this program is expected to be an increase in annual certified HIV counselor output in Uganda.

Activities

Awardee activities for this program are as follows:

a. Identify project staffing needs; hire and train staff.

b. Identify vehicles, furnishings, fittings, equipment, computers and other fixed assets procurement needs of the program and acquire from normal sources.

c. Establish suitable administrative and financial management structures and a project office if required.

d. Conduct a comprehensive national assessment of HIV counselor training, looking at: curricula; demand; supply; and the size and nature of priority target groups for training and other related issues. Develop, with stakeholders, a strategy to address gaps.

e. Determine competencies for different levels of counseling.

f. Develop and field test modular curricula, including visual aides and job aides, for different target groups, ensure inclusion of new issues such as ARV, PMTCT, Home-based VCT, PWP, etc. and pre-test curricula.

g. Support HIV counselor training organizations to implement the new curricula and build the capacity of their training units to supply the demand for quality counselors.

h. Coordinate with stakeholders to implement an increase in HIV counselor training capacity in a manner which is responsive to demand and addresses critical gaps.

i. Work with stakeholders to incorporate counseling skills in pre-service training for relevant professions.

j. Support the establishment and development of an umbrella professional body for counselors.

k. Work with stakeholders and the professional counseling body to establish systems for counselor training, quality assurance, accreditation and certification.

l. Work with stakeholders and the professional counseling body to develop standards, quality assurance, and a system of professional ethics for counseling.

m. Provide technical assistance to strengthen the network of HIV/AIDS training organizations through the professional counseling body.

n. Provide high level technical training advisor who will work closely with MOH and key PEPFAR partners, including The AIDS Support Organization (TASO), the AIDS Information Centre (AIC) Mildmay, the Joint Clinical Research Centre (JCRC), AIDS/HIV Integrated Model District Program (AIM), and others.

o. Establish appropriate counselor training scholarship mechanisms and provide scholarships to meet critical gaps for counselors generally, and especially for PEPFAR partners.

p. Support the collection and analysis of data as relevant for development of a management information system (MIS) for HIV counselor training and to ensure collection of PEPFAR indicator data.

q. Ensure that the above activities are undertaken in a manner consistent with the national HIV/AIDS strategy. All activities should be coordinated with the MOH.

In a cooperative agreement, CDC staff is substantially involved in the program activities, above and beyond routine grant monitoring.

CDC activities for this program are as follows:

a. Provide technical assistance, as needed, in the development of standards for HIV counseling and counselor training and for quality assurance systems.

b. Collaborate with the recipient, as needed, in the development of an information technology system for tracking key counselor training activities and in the analysis of data derived from those records.

c. Assist, as needed, in evaluation of the program and in development of further appropriate initiatives.

d. Provide input, as needed, into the criteria for selection of staff and non-staff implementing the program and into the target criteria and structure of counselor training scholarship programs.

e. Provide input into the overall program strategy.

f. Review and approve of all final draft curricula before dissemination.

g. Collaborate, as needed, with the recipient in the selection of key personnel to be involved in the activities to be performed under this agreement including approval of the overall manager of the program.

Technical assistance and training may be provided directly by CDC staff or through organizations that have successfully competed for funding under a separate CDC contract.

II. Award Information

Type of Award: New Cooperative Agreement. CDC involvement in this program is listed in the Activities Section above.

Fiscal Year Funds: 2004.

Approximate Total Funding: $3,275,000 (This amount is for the entire five year project period).

Approximate Number of Awards: 1.

Approximate Average Award: $655,000 (This amount is for the first 12-month budget period, only direct costs).

Floor of Award Range: None.

Ceiling of Award Range: $655,000.

Anticipated Award Date: July 1, 2004.

Budget Period Length: 12 months.

Project Period Length: 5 years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by: public nonprofit organizations, private nonprofit organizations, universities, colleges, research institutions, hospitals, and faith-based organizations that meet the following criteria:

1. Have at least three years of documented HIV/AIDS counselor training experience.

2. Have at least three years of documented experience in training needs assessment and training strategy development related to health training programs in Africa.

3. Have at least three years experience in the development or management of a professional association for counselors.

4. Have experience producing high quality HIV/AIDS training curricula that are technically accurate and that follow solid adult training principles.

5. The organization must be based in Uganda.

III.2. Cost Sharing or Matching

Matching funds are not required for this program.

III.3. Other

Note: Title 2 of the United States Code Section 1611 states that an organization described in section 501(c)(4) of the Internal Revenue Code that engages in lobbying activities is not eligible to receive Federal funds constituting an award, grant or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must include a project narrative with your application forms. The narrative must be submitted in the following format:

• Maximum number of pages: 25. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

• All pages should be numbered, and a complete index to the application and any appendices must be included.

• Submitted in English.

Your narrative should address activities to be conducted over the entire project period, and should consist of, as a minimum, a plan, objectives, activities, methods, an evaluation framework, a budget and budget justification highlighting any supplies mentioned in the Program Requirements and any proposed capital expenditure.

The budget justification will not be counted in the page limit stated above. Guidance for completing your budget can be found on the United States government Web site at the following address: http://www.cdc.gov/od/pgo/funding/budgetguide.htm.

Additional information is optional and may be included in the application appendices. The appendices will not be counted toward the narrative page limit. Additional information could include but is not limited to: Organizational charts, curriculum vitae, letters of support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “Administrative and National Policy Requirements.”

IV.3. Submission Dates and Times

Application Deadline Date: July 26, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700.

Before calling, please wait two to three days after the application deadline. This will allow time for applications to be processed and logged.

IV.4. Intergovernmental Review of Applications

Executive Order 12372 does not apply to this program.

IV.5. Funding Restrictions

Funds may be used for:

1. Studies, needs assessment, curriculum development, training materials development, institutional development including equipment purchase, and establishment of a professional body for counseling.

2. Evaluation and management of the activities.

Restrictions, which must be taken into account while writing your budget, are as follows:

• Antiretroviral Drugs—The purchase of antiretrovirals, reagents, and laboratory equipment for antiretroviral treatment projects require pre-approval from the GAP headquarters.

• Needle Exchange—No funds appropriated under this Act shall be used to carry out any program of distributing sterile needles or syringes for the hypodermic injection of any illegal drug.

• Funds may be spent for reasonable program purposes, including personnel, training, travel, supplies and services. Equipment may be purchased and renovations completed, however, prior written approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program, however, the applicant must perform a substantial portion of the activities, including program management and operations, and delivery of prevention and care services for which funds are required.

• An annual audit of these funds is required by a U.S. based audit firm with international branches and current licensure/authority in-country, and in accordance with International Accounting Standards or equivalent standard(s) approved in writing by CDC. The audit should specify the use of funds and the appropriateness and reasonableness of expenditures.

• A fiscal Recipient Capability Assessment may be required with the potential awardee, pre or post award, in order to review their business management and fiscal capabilities regarding the handling of U.S. Federal funds.

• Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the World Health Organization, the International AIDS Vaccine Initiative or to any United Nations agency, if such entity is a recipient of U.S. government funds in connection with this document.

The following definitions apply for purposes of this clause:

• Sex trafficking means the recruitment, harboring, transportation, provision, or obtaining of a person for the purpose of a commercial sex act. 22 U.S.C. 7102(9).

• A foreign recipient includes an entity that is not organized under the laws of any State of the United States, the District of Columbia or the Commonwealth of Puerto Rico. Restoration of the Mexico City Policy, 66 FR 17303, 17303 (March 28, 2001).

All recipients must insert provisions implementing the applicable parts of this section, “Prostitution and Related Activities,” in all subagreements under this award. These provisions must be express terms and conditions of the subagreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with the section, ‘Prostitution and Related Activities.’ ”) addressed to the agency's grants officer. Such certifications are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Awards will not allow reimbursement of pre-award costs.

IV.6. Other Submission Requirements

Application Submission Address: Submit the original and two hard copies of your application by mail or express delivery service to:

Technical Information Management Section-PA #04224, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

Your application will be evaluated against the following criteria:

1. Understanding of the Issues, Principles and Systems Requirements Involved in Improving HIV Counselor Training and in Developing a Professional Counseling Body in the Context of Uganda (25 Points)

Does the applicant demonstrates an understanding of the technical, managerial and other practical issues involved in the national assessment of HIV counselor training needs, in improving the quality of HIV counselor training and increasing the training providers' capacity to deliver quality training to priority target groups as well as the development of a professional counseling body and accreditation, certification and quality assurance systems for training and for counseling throughout Uganda?

2. Work Plan (20 Points)

Does the applicant describe activities which are realistic, achievable, time-framed and appropriate to complete this program?

3. Ability to carry out the proposal (20 Points)

Does the applicant demonstrate the capability to achieve the purpose of this proposal?

4. Personnel (20 Points)

Are the personnel (including their qualifications, training, availability, and experience) adequate to carry out the proposed activities?

5. Administrative and Accounting Plan (15 Points)

Is there a plan to account for, prepare reports, monitor and audit expenditures under this agreement, manage the resources of the program, and produce, collect and analyze performance data?

6. Budget (Not Scored)

Is the budget for conducting the activity itemized and well-justified, and consistent with stated activities and planned program activities?

V.2. Review and Selection Process

Applications will be reviewed for completeness by the Procurement and Grants Office (PGO) staff, and for responsiveness by the National Center for HIV, STD and TB Prevention (NCHSTP). Incomplete applications and applications that are non-responsive to the eligibility criteria will not advance through the review process. Applicants will be notified that their application did not meet submission requirements.

An objective review panel will evaluate complete and responsive applications according to the criteria listed in the “Criteria” section above.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-10 Smoke-Free Workplace Requirements

• AR-12 Lobbying Restrictions

Additional information on these requirements can be found on the CDC Web site at the following Internet address: http://www.cdc.gov/od/pgo/funding/ARs.htm.

Technical Reporting Requirements

Provide CDC with original plus two copies of:

1. Semi-annual progress reports not more than 30 days after the end of the budget period.

2. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of effectiveness.

3. Financial status report, no more than 90 days after the end of the budget period.

4. Final financial and performance reports, no more than 90 days after the end of the project period.

Send all reports to the Grants Management or Contract Specialist identified in the “Agency Contacts” section of this announcement.

VII. Agency Contacts

For general questions about this announcement, contact: Technical Information Management Section, CDC Procurement and Grants Office, 2920 Brandywine Road, Atlanta, GA 30341, Telephone: 770-488-2700.

For program technical assistance, contact: Jonathan Mermin, MD, MPH, Global Aids Program [GAP], Uganda Country Team, National Center for HIV, STD and TB Prevention, Centers for Disease Control and Prevention [CDC], PO Box 49, Entebbe, Uganda. Telephone: +256-41320776 E-mail: jhm@cdc.gov.

For financial, grants management, or budget assistance, contact: Shirley Wynn, Grants Management Specialist, Procurement and Grants Office, Centers for Disease Control and Prevention, 2920 Brandywine Road, Atlanta, GA 30341-4146, Telephone: 770-488-1515, E-mail address: zbx6@cdc.gov.

Dated: June 18, 2004.
William P. Nichols,
Acting Director, Procurement and Grants Office, Centers for Disease Control and Prevention.

[FR Doc. 04-14313 Filed 6-23-04; 8:45 am]

BILLING CODE 4163-18-P